ENVIRONMENTAL PROTECTION AGENCY

40 CFR Part 52

[MD059-3049b; FRL-6530-9]

Approval and Promulgation of Air Quality Implementation Plans; Maryland, Post-1996 Rate of Progress Plan for Cecil County and Revisions to the 1990 Base Year Emissions Inventory

AGENCY: Environmental Protection Agency (EPA).

ACTION: Proposed rule.

SUMMARY: EPA proposes to approve the State Implementation Plan (SIP) revision submitted by the State of Maryland for the purpose of establishing the three percent per year emission reduction rate-of-progress requirement for the period 1996-1999 for the Maryland portion of the Philadelphia-Wilmington-Trenton ozone nonattainment area, namely Cecil County, Maryland. EPA is also approving revisions to the 1990 base year inventory of ozone precursor emissions submitted by the State of Maryland for Cecil County. EPA is approving the State's SIP submittals as a direct final rule without prior proposal because the Agency views these as noncontroversial submittals and anticipates no adverse comments. A detailed rationale for the approval is set forth in the direct final rule. If no adverse comments are received in response to this action, no further activity is contemplated. If EPA receives adverse comments, the direct final rule will be withdrawn and all public comments received will be addressed in a subsequent final rule based on this proposed rule. EPA will not institute a second comment period on this action. Any parties interested in commenting on this action should do so at this time.

DATES: Comments must be received in writing by March 6, 2000.

ADDRESSES: Written comments should be addressed to David L. Arnold, Chief, Ozone and Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland, 21224.

FOR FURTHER INFORMATION CONTACT: Kristeen Gaffney, (215) 814-2092, at the EPA Region III address above, or by e-mail at gaffney.kristeen@epa.gov.

SUPPLEMENTARY INFORMATION: For further information, please see the information provided in the direct final action, with the same title, that is located in the “Rules and Regulations” section of this Federal Register publication.

Dated: January 14, 2000.
Bradley M. Campbell,
Regional Administrator, Region III.

[FR Doc. 00-2174 Filed 2-2-00; 8:45 am]

BILLING CODE 6560-50-P